DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 1167, dated January 7, 2011) is amended to reflect the reorganization of the Office of Surveillance, Epidemiology and Laboratory Services, Centers for Disease Control and Prevention.

Section C-B, Organization and Functions, is hereby amended as follows: Delete in its entirety the title for the Knowledge Management Branch (CPGBB). within the Division of Laboratory Policy and Practice (CPGB), Laboratory Science Policy and Practice Program Office (CPG), Office of Surveillance, Epidemiology and Laboratory Services (CP) and insert the Technology Management Branch (CPGBB).

Following the title and functional statement for the Laboratory Policy Branch (CPGBC), insert the following:

Laboratory Training Branch (CPGBD). (1) Provides advanced laboratory training to maintain a competent, prepared, and sustainable national/global laboratory workforce; (2) analyzes, designs, develops, and implements effective needs-based training pertaining to public health laboratory methodology and technology; (3) evaluates the efficiency and effectiveness of public health laboratory education and training for state and local public health, clinical, military, CDC, and other federal agency laboratorians; and (4) evaluates the effectiveness and measures the outcomes of all training to ensure a high quality product for all end users.

Delete in its entirety the functional statement for the Division of Leadership and Practice (CPLC) within the Scientific Education and Professional Development Program Office (CPL), Office of Surveillance, Epidemiology and Laboratory Services (CP) and insert the following:

Division of Leadership and Practice (CPLC). (1) Plans, directs, and manages CDC-wide training and service programs for the teaching and training of public health professionals in public health practice, including public health leadership and management, public policy, program planning, implementation, and evaluation; (2) plans, directs, and manages CDC-wide training and service programs for fellowships and internships sponsored by other partner organizations and implemented within CDC (e.g., Emerging Leaders Program, Presidential Management Fellowship, and Association of Schools of Public Health Fellowship); (3) incorporates principles of adult learning theory and current learning standards into the design, delivery, and evaluation of education and training products; (4) leads content development and implementation of workforce development programs intended to increase the number of individuals choosing public health careers; (5) responds to domestic and international requests for assistance and consultation (Emergency Operations Center deployment); (6) maintains knowledge of continuing education standards to uphold national accreditations and provides guidance and consultation, incorporating principles of adult learning theory with course developers to ensure educational activities are accredited for continuing education; (7) works with partner agencies to articulate and build curricula for public health workforce competencies in leadership and management; (8) maintains liaison with other governmental agencies, academic institutions and organizations, state and local health agencies, private health organizations, professional organizations, and other outside groups; (9) provides technical assistance, consultation, resources and training for SEPDPO, other CDC fellowships, and the broader health workforce, including, but not limited to the development and dissemination of standard curricula, training, and related materials, in leadership and management; (10) develops and maintains appropriate internal and external partnerships to foster best practices in the design and delivery of educational activities and training; and (11) collaborates, as appropriate, with the CDC OD, other CIOs, and domestic and international agencies to carry out the functions of the division.

Following the title and functional statement for the Public Health Prevention Service Branch (CPLCC), insert the following:

Educational Design and Accreditation Branch (CPLCD). (1) Provides consultation, guidance, and technical assistance to course developers, incorporating principles of learning theory to ensure consistent design and delivery of accredited educational activities; (2) maintains knowledge of continuing education standards and applies quality assurance practices required to uphold national accreditations; (3) assesses need and demand for additional accreditations to support professional license and certification needs of technical and professional staff within the health workforce; (4) develops and maintains internal and external partnerships to foster best practices in the design and delivery of educational activities and training; (5) maintains knowledge of information technology and learning standards as they apply to education and training to demonstrate and promote compliance and best practices by CDC programs; (6) applies the principles of instructional systems design and learning theory to design, develop, deliver, and evaluate informational and instructional products; (7) implements and maintains the CDC Training and Continuing Education Online web-based accreditation and registration system; (8) adapts information systems and processes to reflect current best practices and adherence to accreditation requirements; and (9) provides technical assistance and guidance to learners to ensure accreditation and learner support.

Delete in its entirety the title and functional statement for the Division of Training Development and Services (CPLD) within the Scientific Education and Professional Development Program Office (CPL), Office of Surveillance, Epidemiology and Laboratory Services (CP)

Dated: March 10, 2011.
James D. Seligman,
Acting Chief Operating Officer, Centers for Disease Control and Prevention.

[FR Doc. 2011-6515 Filed 3-21-11; 8:45 am]

BILLING CODE 4160-18-M